DEPARTMENT OF THE TREASURY

United States Mint

Pricing for the 2020 Basketball Hall of Fame Commemorative Coin Program

AGENCY: United States Mint, Department of the Treasury.

ACTION: Notice.

SUMMARY: The United States Mint is announcing pricing for the 2020 Basketball Hall of Fame Commemorative Coin Program as follows:

Coin | Introductory price | Regular price
Silver Proof | $69.00 | $74.00
Silver Uncirculated | 64.00 | 69.00
Clad Proof | 39.00 | 44.00
Clad Uncirculated | 37.00 | 42.00
Kids Set | N/A | 45.00

Products containing gold coins will be priced according to the Pricing of Numismatic and Commemorative Gold and Platinum Products Grid posted at www.usmint.gov.

FOR FURTHER INFORMATION CONTACT: Rosa Williams, Program Manager for Sales and Marketing; United States Mint; 801 9th Street NW; Washington, DC 20220; or call 202-354-7500.

Authority: Public Law 115-343.

Dated: March 10, 2020.
Patrick Hernandez,
Deputy Director, United States Mint.

[FR Doc. 2020-05322 Filed 3-13-20; 8:45 am]

BILLING CODE P